PEACE CORPS

22 CFR Part 303

RIN 0420-AA21

Freedom of Information Act Administration

AGENCY: Peace Corps.

ACTION: Direct final rule.

SUMMARY: The Peace Corps is amending its Freedom of Information Act (FOIA) regulations, to permit requesters to use electronic mail when submitting requests, and to increase copy fees to 15 cents per page. The first revision will provide the public with more efficient FOIA responses, and the second revision will cover the costs of materials and upkeep for photocopying services.

DATES: This final rule is effective on June 28, 2007. Without further action, unless adverse comment is received by Peace Corps by June 13, 2007. If adverse comment is received, Peace Corps will publish a timely withdrawal of the rule in the Federal Register.

ADDRESSES: You may submit comments by e-mail to sglasow@peacecorps.gov. Include RIN 0420-AA21 in the subject line of the message. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associate General Counsel, 202-692-2150, sglasow@peacecorps.gov.

SUPPLEMENTARY INFORMATION: The revisions to the Peace Corps' FOIA regulations include a change in the manner of making FOIA requests, and an increased fee for copying documents released under FOIA. First, consistent with the E-Government Act, Peace Corps proposes to begin allowing FOIA requesters to make FOIA requests through e-mail. Second, Peace Corps is revising its FOIA regulations to increase the standard copying charge from 10 cents to 15 cents per page. By increasing fees, the agency will be able to fully cover the costs of paper and machine maintenance associated with providing a large quantity of photocopies.

Section-by-Section Analysis

Section 308.8 Requests for Records

Subpart (b) is amended to permit requesters to make FOIA requests through e-mail.

Section 303.13 Fees

Subpart (e) is amended to increase the reasonable standard charge for duplication by paper copy from 10 cents to 15 cents.

Executive Order 12866

This regulation has been determined to be non-significant within the meaning of Executive Order 12866.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by State, local, and tribal governments, in aggregate, or by the private sector of $100 or more in any one year.

Paperwork Reduction Act of 1995 (44 U.S.C., Chapter 35)

This regulatory action will not impose any additional reporting or recordkeeping requirements under the Paperwork Reduction Act.

Federalism (Executive Order 13132)

This regulatory action does not have Federalism implications, as set forth in Executive Order 13132. It will not have substantial direct effects on the States, on the relationship between the national government and the States, or on the distribution of power and responsibilities among the various levels of government.

List of Subjects in 22 CFR Part 303

Freedom of Information.

For reasons set out in the preamble, the Peace Corps amends 22 CFR part 303 as follows:

PART 303—PROCEDURES FOR DISCLOSURE OF INFORMATION UNDER THE FREEDOM OF INFORMATION ACT

1. The authority citation for part 303 continues to read as follows:

Authority: 5 U.S.C. 552; 22 U.S.C. 2501, et seq.; E.O. 12137, 44 FR 29023, 3 CFR, 1979 Comp., p. 389; E.O. 12600, 52 FR 23781, 3 CFR, 1987 Comp., p. 235.

2. In § 303.8, paragraph (b) is revised to read as follows:

§ 303.8 Requests for records.

* * * * *

(b) Requests. Requests for records under this section shall be made in writing via regular mail, e-mail, or facsimile and, as applicable, the envelope, letter or subject line shall be clearly marked “Freedom of Information Request.” All requests shall be addressed to the FOIA Officer. Requests by letter shall use the address given in § 303.5(a) and requests by e-mail must be sent to the FOIA electronic mailbox address foia@peacecorps.gov. Any request not marked and addressed as specified in this paragraph will be so marked by Peace Corps personnel as soon as the request is properly identified. The request will then be forwarded immediately to the FOIA Officer. A request improperly addressed will not be deemed to have been received for purposes of the time period set out in paragraph (h) of this section until it has been received by the FOIA Officer. Upon receipt of an improperly addressed request, the FOIA Officer shall notify the requester of the date on which the time period began. The request shall be stamped “received” on the date it is received by the FOIA Office. Any request received by e-mail shall be printed on paper and stamped on the date it is received by the FOIA Office.

* * * * *

3. In § 303.13, paragraph (e)(3) is revised to read as follows:

§ 303.13 Fees.

* * * * *

(e) * * *

(3) Duplication by paper copy: 15 cents per page;

* * * * *

Dated: May 8, 2007.
Tyler S. Posey,
General Counsel.

[FR Doc. 07-2349 Filed 5-11-07; 8:45 am]

BILLING CODE 6051-01-M